DEPARTMENT OF HOUSING AND URBAN DEVELOPMENT

[Docket No. FR-4630-FA-11B]

Announcement of Funding Award—FY 2001 Healthy Homes Grant Program

AGENCY: Office of the Secretary—Office of Healthy Homes Research Grant Program.

ACTION: Announcement of funding awards.

SUMMARY: In accordance with Section 102(a)(4)(C) of the Department of Housing and Urban Development Reform Act of 1989, this announcement notifies the public of additional funding decisions made by the Department in a competition for funding under the Healthy Homes Demonstration and Education Notice of Funding Availability (NOFA). This announcement contains the name and address of the award recipient and the amount of award.

FOR FURTHER INFORMATION CONTACT: Ellen R. Taylor, Department of Housing and Urban Development, Office of Healthy Homes and Lead Hazard Control, Room P3206, 451 Seventh Street, SW., Washington, DC, 20410-3000, telephone (202) 755-1785, ext. 116. Hearing- and speech-impaired persons may access the number above via TTY by calling the toll free Federal Information Relay Service at 1-800-877-8339.

SUPPLEMENTARY INFORMATION: The authority for Healthy Homes Demonstration and Education Program is sections 501 and 502 of the Housing and Urban Development Act of 1970 and the Departments of Veterans Affairs and Housing and Urban Development, and Independent Agencies Appropriations Act, 2001, Pub. L. 106-377, approved October 27, 2000.

These awards were the result of a competition announced in a Federal Register NOFA published on February 26, 2001 (66 FR 11893). The purpose of the competition was to award grant funding of approximately $1,500,000 for grants and cooperative agreements for the Healthy Homes Research Program. Applications were scored and selected on the basis of selection criteria contained in that Notice.

The Catalog of Federal Domestic Assistance number for this program is 14.900.

A total of $2,239,196 was awarded to six grantees. In accordance with section 102(a)(4)(C) of the Department of Housing and Urban Development Reform Act of 1989 (103 Stat. 1987, 42 U.S.C. 3545), the Department is publishing the names, addresses, and amounts of this awards as follows:

Awardee | Address | Amount of grant
Air Quality Sciences, Inc. | 1337 Capital Circle, Marietta, GA 30067 | $210,299.00
Columbia University | 60 Haven Avenue, B-106, New York, NY 10032 | 505,365.00
Duke University | Box 90077, Durham, NC 27708-0077 | 405,217.00
Radiation Monitoring Devices, Inc. | 44 Hunt Street, Watertown, MA 0272 | 449,444.00
Research Triangle Institute | 3040 Cornwallis Road, Research Triangle Park, NC 27709 | 220,082.00
University of Cincinnati | PO Box 670056, Cincinnati, OH 45267-0056 | 448,789.00

Dated: November 4, 2003.
Joseph F. Smith,
Deputy Director, Office of Healthy Homes and Lead Hazard Control.

[FR Doc. 03-30412 Filed 12-8-03; 8:45 am]

BILLING CODE 4210-70-P